INTERNATIONAL TRADE COMMISSION

[Investigation No. 731-TA-768 (Review)]

Fresh Atlantic Salmon From Chile

AGENCY: United States International Trade Commission.

ACTION: Termination of five-year review.

SUMMARY: The subject five-year review was initiated in June 2003 to determine whether revocation of the antidumping duty order on fresh Atlantic salmon from Chile would be likely to lead to continuation or recurrence of dumping and of material injury to a domestic industry. On July 25, 2003, Commerce published notice of its final results of a changed circumstances review, in which it decided to revoke the order on fresh Atlantic salmon from Chile, effective July 1, 2001, because “domestic interested parties expressed no interest in the continuation of this order” (68 FR 44043). In light of the revocation of the order, Commerce published notice that it was rescinding its five-year review on fresh Atlantic salmon from Chile on August 13, 2003 (68 FR 48339). Accordingly, pursuant to section 751(c) of the Tariff Act of 1930 (19 U.S.C. 1675(c)), the subject review is terminated.

EFFECTIVE DATE: August 13, 2003.

FOR FURTHER INFORMATION CONTACT: Mary Messer (202-205-3193), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov).

Authority: This review is being terminated pursuant to section 751(c) of the Tariff Act of 1930 (19 U.S.C. 1675(c)); this notice is published pursuant to section 207.69 of the Commission's rules (19 CFR 207.69).

By order of the Commission.
Issued: August 21, 2003.
Marilyn R. Abbott,
Secretary to the Commission.

[FR Doc. 03-21875 Filed 8-26-03; 8:45 am]

BILLING CODE 7020-02-P